SMALL BUSINESS ADMINISTRATION

[Disaster Declaration #11079 and #11080]

California Disaster Number CA-00074

AGENCY: U.S. Small Business Administration.

ACTION: Amendment 2.

SUMMARY: This is an amendment of the Presidential declaration of a major disaster for the State of California (FEMA-1731-DR), dated 10/24/2007.

Incident: Wildfires; Flooding, Mud Flows, and Debris Flows directly related to the Wildfires.

Incident Period: 10/21/2007 and continuing.

EFFECTIVE DATE: 01/04/2008.

Physical Loan Application Deadline Date: 01/09/2008.

EIDL Loan Application Deadline Date: 07/24/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of California, dated 10/24/2007 is hereby amended to expand the incident type for this disaster to include flooding, mud flows, and debris flows directly related to the wildfires.

All other information in the original declaration remains unchanged.

(Catalog of Federal Domestic Assistance Numbers 59002 and 59008).

Herbert L. Mitchell,
Associate Administrator for Disaster Assistance.

[FR Doc. E8-342 Filed 1-10-08; 8:45 am]

BILLING CODE 8025-01-P